DEPARTMENT OF EDUCATION

Applications for New Awards; Educational Technology, Media, and Materials for Individuals With Disabilities—National Center on Accessible Educational Materials for Learning

AGENCY: Office of Special Education and Rehabilitative Services, Department of Education.

ACTION: Notice.

SUMMARY: The mission of the Office of Special Education and Rehabilitative Services (OSERS) is to improve early childhood, educational, and employment outcomes and raise expectations for all people with disabilities, their families, their communities, and the Nation. As such, we are issuing a notice inviting applications for new awards for fiscal year (FY) 2019 for Educational Technology, Media, and Materials for Individuals with Disabilities—National Center on Accessible Educational Materials for Learning, Catalog of Federal Domestic Assistance (CFDA) number 84.327Z. This notice relates to the approved information collection under OMB control number 1820-0028.

DATES: Applications Available: August 1, 2019.

Deadline for Transmittal of Applications: September 3, 2019.

Pre-Application Webinar Information: No later than August 6, 2019, OSERS will post pre-recorded informational webinars designed to provide technical assistance (TA) to interested applicants. The webinars may be found at www2.ed.gov/fund/grant/apply/osep/new-osep-grants.html.

Pre-Application Q & A Blog: No later than August 6, 2019, OSERS will open a blog where interested applicants may post questions about the application requirements for this competition and where OSERS will post answers to the questions received. OSERS will not respond to questions unrelated to the application requirements for this competition. The blog may be found at www2.ed.gov/fund/grant/apply/osep/new-osep-grants.html and will remain open until August 20, 2019. After the blog closes, applicants should direct questions to the person listed under FOR FURTHER INFORMATION CONTACT.

ADDRESSES: For the addresses for obtaining and submitting an application, please refer to our Common Instructions for Applicants to Department of Education Discretionary Grant Programs, published in the Federal Register on February 13, 2019 (84 FR 3768), and available at www.govinfo.gov/content/pkg/FR-2019-02-13/pdf/2019-02206.pdf.

FOR FURTHER INFORMATION CONTACT: Tara Courchaine, U.S. Department of Education, 400 Maryland Avenue SW, Room 5054E, Potomac Center Plaza, Washington, DC 20202-5076. Telephone: (202) 245-6462. Email: Tara.Courchaine@ed.gov.

If you use a telecommunications device for the deaf (TDD) or a text telephone (TTY), call the Federal Relay Service (FRS), toll free, at 1-800-877-8339.

SUPPLEMENTARY INFORMATION:

Full Text of Announcement

I. Funding Opportunity Description

Purpose of Program: The purposes of the Educational Technology, Media, and Materials for Individuals with Disabilities Program are to (1) improve results for children with disabilities by promoting the development, demonstration, and use of technology; (2) support educational activities designed to be of educational value in the classroom for children with disabilities; (3) provide support for captioning and video description that is appropriate for use in the classroom; and (4) provide accessible educational materials (AEM) to children with disabilities in a timely manner.¹

¹ Applicants should note that other laws, including the Americans with Disabilities Act of 1990 (42 U.S.C. 12101 et seq.; 28 CFR part 35) and section 504 of the Rehabilitation Act of 1973 (29 U.S.C. 794; 34 CFR part 104), may require that State educational agencies and local educational agencies provide captioning, video description, and other accessible educational materials to children with disabilities when such materials are necessary to provide children with disabilities with equally integrated and equally effective access to the benefits of the educational program or activity, or as part of a “free appropriate public education” as defined in the Department of Education's Section 504 regulation.

Priority: In accordance with 34 CFR 75.105(b)(2)(v), this priority is from allowable activities specified in sections 674(b)(2) and 681(d) of the Individuals with Disabilities Education Act (IDEA) (20 U.S.C. 1400 et seq.).

Absolute Priority: For FY 2019 and any subsequent year in which we make awards from the list of unfunded applications from this competition, this priority is an absolute priority. Under 34 CFR 75.105(c)(3), we consider only applications that meet this priority.

This priority is: National Center on Accessible Educational Materials for Learning.

Background: The purpose of this priority is to fund a cooperative agreement to establish and operate a National Center on Accessible Educational Materials for Learning (Center). The Center will work with State educational agencies (SEAs), local educational agencies (LEAs), and other stakeholders to improve the quality, availability, and timely delivery of AEM and related technologies for use by infants, toddlers, children, and youth with disabilities (hereafter referred to as “individuals with disabilities,” which includes “eligible persons” who are blind, have a visual impairment or perceptual or reading disability or have a physical disability affecting their ability to read ²). We intend the Center, in partnership with parents, families, and diverse stakeholders, to improve opportunities and raise expectations for individuals with disabilities to (1) participate in high-quality early learning programs, (2) meet high expectations through meaningful engagement and progress in the general education curriculum, (3) demonstrate improved outcomes on assessments, (4) meet State academic standards, and (5) transition to postsecondary education or the workforce. In short, we intend the Center to help address the complex issue of access to educational materials and the general education curriculum for individuals with disabilities.

² The Marrakesh Treaty Implementation Act amended section 121 of the Copyright Act to provide new terms and definitions. The Treaty updates beneficiaries in section 121 from “blind or other persons with disabilities” to “eligible persons”. See www.copyright.gov/legislation/2018_marrakesh_faqs.pdf.

Under section 612(a)(1) of the IDEA, States must ensure that a free appropriate public education (FAPE) is made available to all children with disabilities. IDEA also requires that all children with disabilities are included in all general State and districtwide assessment programs (see section 612(a)(16)). Additionally, SEAs and LEAs are responsible for ensuring that individuals with disabilities who need instructional materials in accessible formats, but are not included under the definition of “blind or other persons with print disabilities,” ³ receive AEM in a timely manner (34 CFR 300.172(b)(3) and 300.210(b)(3); 20 U.S.C. 1412(a)(23) and 1413(a)(6)). Accessible educational materials and technologies enable individuals with disabilities to have access to, be involved in, and make progress in the general education curriculum (or for a preschool child, to participate in appropriate activities) and assessments.

³ The Library of Congress regulations (36 CFR 701.6(b)(1)) related to the Act to Provide Books for the Adult Blind (approved March 3, 1931, 2 U.S.C. 135a) provide that “blind persons or other persons with print disabilities” include: (i) Blind persons whose visual acuity, as determined by competent authority, is 20/200 or less in the better eye with correcting glasses, or whose widest diameter if visual field subtends an angular distance no greater than 20 degrees. (ii) Persons whose visual disability, with correction and regardless of optical measurement, is certified by competent authority as preventing the reading of standard printed material. (iii) Persons certified by competent authority as unable to read or unable to use standard printed material as a result of physical limitations. (iv) Persons certified by competent authority as having a reading disability resulting from organic dysfunction and of sufficient severity to prevent their reading printed material in a normal manner.

Over the past 15 years, the reliance on static print curricula and materials has shifted to digital resources, technologies, and open educational resources (OERs). Digital resources and technologies hold promise for personalized and enhanced learning for individuals with disabilities in education and workplace settings. However, when accessibility is not meaningfully considered during the creation, procurement, or curation ⁴ process, these new technologies can become barriers to full access to the general education curriculum. This is also true for children required to use OERs or to access instruction through learning management systems.

⁴ “Digital curation is the active involvement of information professionals in the management, including the preservation, of digital data for future use.” See www.emeraldinsight.com/doi/abs/10.1108/10650750710831466.

Many OERs are in Portable Document Format (PDF), most of which do not meet basic standards for accessibility. Making PDF materials accessible involves the tedious process of rendering and reconstructing the materials. As a result, individuals with disabilities often do not receive materials in a timely manner, or use alternate materials that are different from materials available to their peers without disabilities. Also, far too often, they cannot use their accommodations or assistive technology (AT) on State-mandated tests due to issues with inoperability, privacy, and security concerns. These problems persist even when the AT is an approved device or resource. In addition, individuals responsible for the procurement and curation of materials are sometimes unaware of student accessibility needs and requirements, which may result in inappropriate purchases.

Finally, children who require embossed braille to learn essential early literacy skills often cannot access interactive digital resources. Therefore, States, districts, and educators need support in developing strategies to help children who are blind, while maintaining equal access to high-quality educational materials.

In order to provide equal access and support improved learning opportunities for all children, regardless of ability or need, States, districts, postsecondary institutions, families, publishers, and other stakeholders will benefit from opportunities to increase their capacity to deliver high-quality AEM. State and local systems need TA to develop, procure, curate, and use AEM, including digital educational materials. The Center must be operated in a manner consistent with nondiscrimination requirements contained in the U.S. Constitution and Federal civil rights laws.

Priority

The purpose of this priority is to fund a cooperative agreement to establish and operate a National Center on Accessible Educational Materials for Learning (Center). Under this priority, the Center, at a minimum, must—

(a) Provide TA to increase the capacity of SEAs, LEAs, stakeholders, and personnel in early learning programs, schools including public charter and nonpublic schools, institutions of higher education (IHEs), and workplaces to provide and support evidence-based practices ⁵ and compliance training to use AEM and related technologies with individuals who need them to access instruction;

⁵ For the purposes of this priority, “evidence-based” means, at a minimum, evidence that demonstrates a rationale (as defined in 34 CFR 77.1), where a key project component included in the project's logic model is informed by research or evaluation findings that suggest the project component is likely to improve relevant outcomes.

(b) Provide TA to SEAs and other stakeholders on accessibility requirements to increase the availability and use of OERs;

(c) Provide TA to SEAs and LEAs on the procurement and curation of print, digital, and born accessible materials, including OERs;

(d) Provide support on the use of AEM and related technologies with State-mandated assessments (including student privacy, interoperability, and the alignment of AEM used for daily instruction and high-stakes assessments);

(e) Increase the capacity of educators to author accessible OERs for individuals with disabilities;

(f) Connect resources and personnel for the blind and visually impaired to the broader AEM community, which includes individuals with high-incidence disabilities (e.g., learning disabilities, mild autism, or mild intellectual disability) and individuals who are deaf and hard of hearing, to align efforts ⁶ and increase the use of accessible materials and resources in schools;

⁶ In most SEAs and LEAs, the individuals responsible for providing AEM to children are separated by disability type or need. For example, those responsible for providing AEM to blind and visually impaired children are different than those providing AEM to children who are deaf and hard of hearing, children with high-incidence disabilities, or children with physical disabilities. These providers do not necessarily communicate and work gets done in parallel, rather than collaboratively.

(g) Increase publisher and vendor awareness of the need for accessible digital materials (including Web Content Accessibility Guidelines (WCAG) 2.0, World Wide Web Consortium (W3C) web standards, and voluntary product accessibility templates (VPATs));

(h) Build the capacity of IHEs to include instruction on AEM and related technologies in their teacher and administrator preparation programs;

(i) Recommend to the Office of Special Education Programs (OSEP) necessary revisions or updates to the technical specifications of the National Instructional Materials Accessibility Standard (NIMAS) to ensure that (1) the technical specifications are consistent with current industry standards, and (2) digital files can be easily and efficiently converted into accessible formats that meet the needs of eligible individuals; and

(j) Collaborate with appropriate OSEP-funded projects related to the NIMAS, AEM, literacy, or reading to increase awareness of accessible materials.

In addition to these programmatic requirements, to be considered for funding under this priority, applicants must meet the application and administrative requirements in this priority, which are:

(a) Demonstrate, in the narrative section of the application under “Significance,” how the proposed project will—

(1) Address the need for AEM and related technologies to support equal opportunities in early learning programs, schools, IHEs, and workplaces. To meet this requirement the applicant must—

(i) Present applicable national, State, regional, or local data demonstrating the need for AEM and related technologies in early learning programs, schools, IHEs, and workplaces for individuals with disabilities, including those who may be underserved; and

(ii) Demonstrate knowledge of the following:

(A) Benefits, services, or opportunities that are available through the use of AEM and related technologies in early learning programs, schools, IHEs, and workplaces that are fully accessible to individuals with disabilities, including those who may be underserved;

(B) Standards and technical specifications for the preparation of electronic files and used for efficient conversion into accessible formats;

(C) Accepted accessibility standards and industry-developed specifications for digital materials and technologies used in schools and workplaces;

(D) Implications of being a #GoOpen ⁷ State and considerations needed to ensure equal access to AEM and related technologies in a timely manner for individuals with disabilities; and

⁷ The Department's #GoOpen initiative supports States and districts in their use of openly licensed educational resources to transform teaching and learning. See https://tech.ed.gov/open/.

(E) TA resources available to stakeholders and personnel in early learning programs, schools, IHEs, and workplaces to support the design, development, maintenance, distribution, timely delivery, and use of AEM and related technologies, including AEM and related technologies that promote Science, Technology, Engineering, or Math (STEM) Education;

(2) Increase the capacity of stakeholders to design, develop, maintain, and distribute AEM and related technologies that conform to current industry standards and, as appropriate, NIMAS. To address this requirement the applicant must—

(i) Identify current policies, procedures, and practices used by early learning programs, schools, IHEs, workplaces, and other stakeholders to ensure the availability and use of AEM and related technologies;

(ii) Identify systemic barriers, gaps, or challenges, including challenges with the use of OERs and interactive digital resources, faced by early learning programs, schools, IHEs, workplaces, and other stakeholders to ensure the availability and use of AEM and related technologies; and

(iii) Identify the potential impact of the recent Marrakesh Treaty Implementation Act on the items in (i) and (ii) above;

(3) Increase knowledge, using identified dissemination strategies, of SEAs, LEAs, and other stakeholders to develop, implement, and sustain efficient, unified procurement, curation, and distribution systems and improve existing systems to ensure the availability and use of AEM and related technologies in early learning programs, schools, IHEs, and workplaces.

(b) Demonstrate, in the narrative section of the application under “Quality of project services,” how the proposed project will—

(1) Ensure equal access and treatment for members of groups that have traditionally been underrepresented based on race, color, national origin, gender, age, or disability. To meet this requirement, the applicant must describe how it will—

(i) Identify the needs of the intended recipients for TA and information; and

(ii) Ensure that products and services meet the needs of the intended recipients of the grant (e.g., by creating materials in accessible formats);

(2) Achieve its goals, objectives, and intended outcomes. To meet this requirement, the applicant must provide—

(i) Measurable intended project outcomes; and

(ii) In Appendix A, the logic model ⁸ by which the proposed project will achieve its intended outcomes that depicts, at a minimum, the goals, activities, outputs, and intended outcomes of the proposed project;

⁸ Logic model (also referred to as a theory of action) means a framework that identifies key project components of the proposed project (i.e., the active “ingredients” that are hypothesized to be critical to achieving the relevant outcomes) and describes the theoretical and operational relationships among the key project components and relevant outcomes.

(3) Use a conceptual framework (and provide a copy in Appendix A) to develop project plans and activities describing any underlying concepts, assumptions, expectations, beliefs, or theories, as well as the presumed relationships or linkages among these variables, and any empirical support for this framework.

Note: The following websites provide more information on logic models and conceptual frameworks: www.osepideasthatwork.org/logicModel and www.osepideasthatwork.org/resources-grantees/program-areas/ta-ta/tad-project-logic-model-and-conceptual-framework.

(4) Be based on current research. To meet this requirement, the applicant must describe—

(i) How the proposed project will align to current research, policies, and practices related to the benefits, services, or opportunities that are available through the use of AEM and related technologies in schools and workplaces;

(ii) How the proposed project will further develop the AEM knowledge base;

(iii) How the proposed project will support the alignment of the SEA distribution systems, including in States and LEAs that have committed to the Department's #GoOpen initiative, to ensure the quality, availability, and timely delivery of AEM and related technologies to individuals with disabilities, including those who may be underserved;

(iv) Workplace policies, procedures, and practices for the adoption and implementation of accessible workplace technologies; and

(v) The process the proposed project will use to incorporate current research and practices to guide the development and delivery of its products and services; and

(5) Develop new products and services that are of high quality and sufficient intensity and meet current accessibility standards to achieve the intended outcomes of the proposed project. To address this requirement, the applicant must describe—

(i) Its proposed activities to identify, develop, or expand the knowledge base of SEAs, LEAs, and other stakeholders on AEM and technologies in early learning programs, schools, and workplaces;

(ii) Its proposed plan to identify dissemination strategies to ensure SEAs, LEAs, and other stakeholders have access to products and services;

(iii) Its proposed plan to identify educational benefits, services, and opportunities for using AEM and related technologies in early learning programs, schools, IHEs, and workplaces;

(iv) Its proposed plan to address gaps, challenges, or systemic barriers to, and critical components of, efficient, unified, and effective SEA distribution systems including issues around procurement and curation;

(v) Its proposed plan to identify policies, procedures, and practices addressing accessible workplace technologies;

(vi) Its proposed plan to identify technology design criteria that conform to accepted accessibility standards, NIMAS, and, when appropriate, widely used electronic publishing industry standards (EPUB accessibility, WCAG 2.0 AA, W3C web standards, VPATs);

(vii) Its proposed approach to universal, general TA,⁹ including the number and type of intended recipients of the products and services under this approach. To address this requirement, the applicant must, at a minimum, describe—

⁹ “Universal, general TA” means TA and information provided to independent users through their own initiative, resulting in minimal interaction with TA center staff and including one-time, invited or offered conference presentations by TA center staff. This category of TA also includes information or products, such as newsletters, guidebooks, or research syntheses, downloaded from the TA center's website by independent users. Brief communications by TA center staff with recipients, either by telephone or email, are also considered universal, general TA.

(A) The proposed project's plan to disseminate information gained from the knowledge development activities;

(B) The intended recipients, including the type and number of recipients, that will receive the products and services under this approach;

(C) Its proposed approach to measure the readiness of potential TA recipients to work with the project, assessing, at a minimum, their current infrastructure, available resources, and ability to build capacity at the local level;

(D) Its proposed plan to provide universal, general TA to meet the needs of multiple audiences (including SEAs, LEAs, early childhood providers, schools including public charter and nonpublic schools, IHEs, workplaces, publishers, vendors, OER creators, parents, and families) using the information described in paragraph (b)(4) of this priority so that the data and information are easily accessible by multiple audiences (e.g., websites, webinars, newsletters, guidebooks, research syntheses, conference presentations, and published articles); and

(E) Its proposed plan to increase access to comprehensive and accurate information on implementing relevant legal requirements and on the use of strategies that result in the project's intended outcomes by early learning programs, schools, IHEs, and workplaces, and, as appropriate, by other stakeholders to support the design, development, maintenance, distribution, procurement, timely delivery, and use of AEM and related technologies;

(viii) Its proposed approach to targeted, specialized TA,¹⁰ including the recipients of the products and services under this approach. To address this requirement, the applicant must describe—

¹⁰ “Targeted, specialized TA” means TA services based on needs common to multiple recipients and not extensively individualized. A relationship is established between the TA recipient and one or more TA center staff. This category of TA includes one-time, labor-intensive events, such as facilitating strategic planning or hosting regional or national conferences. It can also include episodic, less labor-intensive events that extend over a period of time, such as facilitating a series of conference calls on single or multiple topics that are designed around the needs of the recipients. Facilitating communities of practice can also be considered targeted, specialized TA.

(A) Its proposed plan to provide support to, and coordinate with, federally funded projects, national professional organizations, and their State and local affiliates to increase their efficiency and effectiveness in disseminating their products and delivering their services within SEA systems for the development, maintenance, distribution, procurement, and curation of AEM and related technologies in early learning programs, schools, IHEs, and workplaces;

(B) Its proposed plan to work with SEAs and State assessment developers and vendors to ensure interoperability with AT devices and accessibility for eligible individuals; and

(C) Its proposed plan to facilitate communication and increased collaboration among multiple stakeholders, including publishers, OER producers, and vendors, to solve problems, share information and materials, and deliver a consistent message on the importance of implementing this priority to ensure full benefits, services, and supports to intended audiences, as appropriate, in early learning programs, schools, IHEs, and workplaces; and

(ix) Its approach to intensive, sustained TA,¹¹ including the intended recipients of the products and services under this approach. To address this requirement, the applicant must describe—

¹¹ “Intensive, sustained TA” means TA services often provided on-site and requiring a stable, ongoing relationship between the TA center staff and the TA recipient. “TA services” are defined as negotiated series of activities designed to reach a valued outcome. This category of TA should result in changes to policy, program, practice, or operations that support increased recipient capacity or improved outcomes at one or more systems levels.

(A) The intended recipients, including the type and number of recipients, that will receive the products and services under this approach;

(B) Its proposed approach to measure the readiness of State- and local-level personnel to work with the project, including their commitment to the initiative, alignment of the initiative to their needs, current infrastructure, available resources, and ability to build capacity at the local level;

(C) Its proposed plan for assisting SEAs, LEAs, charter management organizations, and private school organizations to build or enhance training systems that include professional development based on adult learning principles and coaching and ensure their timely delivery; and

(D) Its proposed plan for working with appropriate levels of the education system (e.g., Part C, SEAs, regional TA providers, IHEs, districts, schools, families, and workforce) to ensure that there is communication between each level and that efficient, effective, and unified procurement, curation, and distribution systems are sustained to ensure the timely delivery of AEM;

(6) Develop products and implement services that maximize efficiency. To address this requirement, the applicant must describe—

(i) How the proposed project will use technology to achieve the intended project outcomes;

(ii) With whom the proposed project will collaborate and the intended outcomes of this collaboration;

(iii) How the proposed project will use non-project resources to achieve the intended project outcomes; and

(iv) How the proposed project will improve the likelihood that the products and services will be used in a variety of settings;

(7) Ensure effective communication and collaboration between project staff, stakeholders, OSEP, and other OSEP-funded projects. To address this requirement, the applicant must—

(i) Describe how the proposed project will communicate and collaborate on an ongoing basis with other OSEP-funded projects, including OSEP-funded Parent Training and Information Centers (PTIs) and Community Parent Resource Centers (CPRCs), to provide training and informational resources for parents and families;

(ii) Describe how the proposed project will collaborate with publishers, accessible media producers, technology developers, vendors, distributors, and others with expertise in AEM production; and

(iii) Describe how the proposed project will communicate using a wide variety of media methods (presentations, publication, conference attendance, demonstrations) to reach a broad range of technology developers, publishers, and end users, such as educators, individuals with disabilities, and parents and families of individuals with disabilities.

(c) In the narrative section of the application under “Quality of the project evaluation,” include an evaluation plan for the project as described in the following paragraphs. The evaluation plan must describe: measures of progress in implementation, including the criteria for determining the extent to which the project's products and services have met the goals for reaching the project's target population; measures of intended outcomes or results of the project's activities in order to evaluate those activities; and how well the goals or objectives of the proposed project, as described in its logic model, have been met.

The applicant must provide an assurance that, in designing the evaluation plan, it will—

(1) Designate, with the approval of the OSEP project officer, a project liaison staff person with sufficient dedicated time, experience in evaluation, and knowledge of the project to work in collaboration with the Center to Improve Program and Project Performance (CIP3), the project director, and the OSEP project officer on the following tasks:

(i) Revise, as needed, the logic model submitted in the application to provide for a more comprehensive measurement of implementation and outcomes and to reflect any changes or clarifications to the model discussed at the kick-off meeting;

(ii) Refine the evaluation design and instrumentation proposed in the grant application consistent with the logic model (e.g., prepare evaluation questions about significant program processes and outcomes; develop quantitative or qualitative data collections that permit both the collection of progress data, including fidelity of implementation, as appropriate, and the assessment of project outcomes; and identify analytic strategies); and

(iii) Revise, as needed, the evaluation plan submitted in the application such that it clearly—

(A) Specifies the measures and associated instruments or sources for data appropriate to the evaluation questions, suggests analytic strategies for those data, provides a timeline for conducting the evaluation, and includes staff assignments for completion of the plan;

(B) Delineates the data expected to be available by the end of the second project year for use during the project's evaluation (3+2 review) for continued funding described under the heading Fourth and Fifth Years of the Project; and

(C) Can be used to assist the project director and the OSEP project officer, with the assistance of CIP3, as needed, to specify the performance measures to be addressed in the project's annual performance report;

(2) Cooperate with CIP3 staff in order to accomplish the tasks described in paragraph (1) of this section; and

(3) Dedicate sufficient funds in each budget year to cover the costs of carrying out the tasks described in paragraphs (1) and (2) of this section and implementing the evaluation plan.

(d) Demonstrate, in the narrative section of the application under “Adequacy of resources and quality of project personnel,” how—

(1) The proposed project will encourage applications for employment from persons who are members of groups that have traditionally been underrepresented based on race, color, national origin, gender, age, or disability, as appropriate;

(2) The proposed key project personnel, consultants, and subcontractors have the qualifications and experience to carry out the proposed activities and achieve the project's intended outcomes;

(3) The applicant and any key partners have adequate resources to carry out the proposed activities; and

(4) The proposed costs are reasonable in relation to the anticipated results and benefits.

(e) Demonstrate, in the narrative section of the application under “Quality of the management plan,” how—

(1) The proposed management plan will ensure that the project's intended outcomes will be achieved on time and within budget. To address this requirement, the applicant must describe—

(i) Clearly defined responsibilities for key project personnel, consultants, and subcontractors, as applicable; and

(ii) Timelines and milestones for accomplishing the project tasks;

(2) Key project personnel and any consultants and subcontractors that will be allocated and how these allocations are appropriate and adequate to achieve the project's intended outcomes;

(3) The proposed management plan will ensure that the products and services provided are of high quality, relevant, and useful to recipients; and

(4) The proposed project will benefit from a diversity of perspectives, including those of families, educators, TA providers, researchers, and policy makers, among others, in its development and operation.

(f) Address the following application requirements. The applicant must—

(1) Include, in Appendix A, personnel-loading charts and timelines, as applicable, to illustrate the management plan described in the narrative.

(2) Include, in the budget, attendance at the following:

(i) A one and one-half day kick-off meeting in Washington, DC, after receipt of the award, and an annual planning meeting in Washington, DC, with the OSEP project officer and other relevant staff during each subsequent year of the project period.

Note: Within 30 days of receipt of the award, a post-award teleconference must be held between the OSEP project officer and the grantee's project director or other authorized representative;

(ii) A two and one-half day project directors' conference in Washington, DC, during each year of the project period;

(iii) Two annual two-day trips to attend Department briefings, Department-sponsored conferences, and other meetings, as requested by OSEP; and

(iv) A one-day intensive 3+2 review meeting in Washington, DC, during the last half of the second year of the project period;

(3) Include, in the budget, a line item for an annual set-aside of 5 percent of the grant amount to support emerging needs that are consistent with the proposed project's intended outcomes, as those needs are identified in consultation with and approved by the OSEP project officer. With approval from the OSEP project officer, the project must reallocate any remaining funds from this annual set-aside no later than the end of the third quarter of each budget period;

(4) Maintain a website, with an easy-to-navigate design, that meets government or industry-recognized standards for accessibility;

(5) Ensure that annual progress toward meeting project goals is posted on the project website; and

(6) Include, in Appendix A, an assurance to assist OSEP with the transfer of pertinent resources and products and to maintain the continuity of services to States during the transition to this new award period and at the end of this award period, as appropriate.

Fourth and Fifth Years of the Project: In deciding whether to continue funding the project for the fourth and fifth years, the Secretary will consider the requirements of 34 CFR 75.253(a), as well as—

(a) The recommendation of a 3+2 review team consisting of experts selected by the Secretary. This review will be conducted during a one-day intensive meeting that will be held during the last half of the second year of the project period;

(b) The timeliness with which, and how well, the requirements of the negotiated cooperative agreement have been or are being met by the project; and

(c) The quality, relevance, and usefulness of the project's products and services and the extent to which the project's products and services are aligned with the project's objectives and likely to result in the project achieving its intended outcomes.

Under 34 CFR 75.253, the Secretary may reduce continuation awards or discontinue awards in any year of the project period for excessive carryover balances or a failure to make substantial progress. The Department intends to closely monitor unobligated balances and substantial progress under this program and may reduce or discontinue funding accordingly.

Waiver of Proposed Rulemaking: Under the Administrative Procedure Act (APA) (5 U.S.C. 553) the Department generally offers interested parties the opportunity to comment on proposed priorities and requirements. Section 681(d) of IDEA, however, makes the public comment requirements of the APA inapplicable to the priority in this notice.

Program Authority: 20 U.S.C. 1474 and 1481.

Applicable Regulations: (a) The Education Department General Administrative Regulations in 34 CFR parts 75, 77, 79, 81, 82, 84, 86, 97, 98, and 99. (b) The Office of Management and Budget Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended as regulations of the Department in 2 CFR part 3474.

Note: The regulations in 34 CFR part 79 apply to all applicants except federally recognized Indian Tribes.

Note: The regulations in 34 CFR part 86 apply to IHEs only.

II. Award Information

Type of Award: Cooperative agreement.

Estimated Available Funds: $1,200,000.

Contingent upon the availability of funds and the quality of applications, we may make additional awards in FY 2020 from the list of unfunded applications from this competition.

Maximum Award: We will not make an award exceeding $1,200,000 for a single budget period of 12 months.

Estimated Number of Awards: 1.

Note: The Department is not bound by any estimates in this notice.

Project Period: Up to 60 months.

III. Eligibility Information

1. Eligible Applicants: SEAs; LEAs, including public charter schools that are considered LEAs under State law; IHEs; other public agencies; private nonprofit organizations; freely associated States and outlying areas; Indian Tribes or Tribal organizations; and for-profit organizations.

2. Cost Sharing or Matching: This program does not require cost sharing or matching.

3. Subgrantees: A grantee under this competition may not award subgrants to entities to directly carry out project activities described in its application. Under 34 CFR 75.708(e), a grantee may contract for supplies, equipment, and other services in accordance with 2 CFR part 200.

4. Other General Requirements: (a) Recipients of funding under this competition must make positive efforts to employ and advance in employment qualified individuals with disabilities (see section 606 of the IDEA).

(b) Applicants for, and recipients of, funding must, with respect to the aspects of their proposed project relating to the absolute priority, involve individuals with disabilities, or parents of individuals with disabilities ages birth through 26, in planning, implementing, and evaluating the project (see section 682(a)(1)(A) of IDEA).

IV. Application and Submission Information

1. Application Submission Instructions: Applicants are required to follow the Common Instructions for Applicants to Department of Education Discretionary Grant Programs, published in the Federal Register on February 13, 2019 (84 FR 3768), and available at www.govinfo.gov/content/pkg/FR-2019-02-13/pdf/2019-02206.pdf, which contain requirements and information on how to submit an application.

2. Intergovernmental Review: This competition is subject to Executive Order 12372 and the regulations in 34 CFR part 79. However, under 34 CFR 79.8(a), we waive intergovernmental review in order to make an award by the end of FY 2019.

3. Funding Restrictions: We reference regulations outlining funding restrictions in the Applicable Regulations section of this notice.

4. Recommended Page Limit: The application narrative (Part III of the application) is where you, the applicant, address the selection criteria that reviewers use to evaluate your application. We recommend that you (1) limit the application narrative to no more than 70 pages, and (2) use the following standards:

• A “page” is 8.5″ x 11″, on one side only, with 1″ margins at the top, bottom, and both sides.

• Double-space (no more than three lines per vertical inch) all text in the application narrative, including titles, headings, footnotes, quotations, reference citations, and captions, as well as all text in charts, tables, figures, graphs, and screen shots.

• Use a font that is 12 point or larger.

• Use one of the following fonts: Times New Roman, Courier, Courier New, or Arial.

The recommended page limit does not apply to Part I, the cover sheet; Part II, the budget section, including the narrative budget justification; Part IV, the assurances and certifications; or the abstract (follow the guidance provided in the application package for completing the abstract), the table of contents, the list of priority requirements, the resumes, the reference list, the letters of support, or the appendices. However, the recommended page limit does apply to all of the application narrative, including all text in charts, tables, figures, graphs, and screen shots.

V. Application Review Information

1. Selection Criteria: The selection criteria for this competition are from 34 CFR 75.210 and are as follows:

(a) Significance of and need for project (15 points).

(1) The Secretary considers the significance of and need for the proposed project.

(2) In determining the significance of and need for the proposed project, the Secretary considers the following factors:

(i) The extent to which specific gaps or weaknesses in services, infrastructure, or opportunities have been identified and will be addressed by the proposed project, including the nature and magnitude of those gaps or weaknesses;

(ii) The potential contribution of the proposed project to increased knowledge or understanding of educational problems, issues, or effective strategies;

(iii) The extent to which the proposed project is likely to build local capacity to provide, improve, or expand services that address the needs of the target population; and

(iv) The potential replicability of the proposed project or strategies, including, as appropriate, the potential for implementation in a variety of settings.

(b) Quality of project design and services (30 points).

(1) The Secretary considers the quality of the design of, and the services to be provided by, the proposed project.

(2) In determining the quality of the services to be provided by the proposed project, the Secretary considers the quality and sufficiency of strategies for ensuring equal access and treatment for eligible project participants who are members of groups that have traditionally been underrepresented based on race, color, national origin, gender, age, or disability.

(3) In addition, the Secretary considers the following factors:

(i) The extent to which the goals, objectives, and outcomes to be achieved by the proposed project are clearly specified and measurable;

(ii) The extent to which the design of the proposed project includes a thorough, high-quality review of the relevant literature, a high-quality plan for project implementation, and the use of appropriate methodological tools to ensure successful achievement of project objectives;

(iii) The extent to which the design of the proposed project is appropriate to, and will successfully address, the needs of the target population or other identified needs;

(iv) The extent to which the training or professional development services to be provided by the proposed project are of sufficient quality, intensity, and duration to lead to improvements in practice among the recipients of those services;

(v) The extent to which the services to be provided by the proposed project involve the collaboration of appropriate partners for maximizing the effectiveness of project services; and

(vi) The extent to which the TA services to be provided by the proposed project involve the use of efficient strategies, including the use of technology, as appropriate, and the leveraging of non-project resources.

(c) Quality of the project evaluation (20 points).

(1) The Secretary considers the quality of the evaluation to be conducted of the proposed project.

(2) In determining the quality of the evaluation, the Secretary considers the following factors:

(i) The extent to which the methods of evaluation are thorough, feasible, and appropriate to the goals, objectives, and outcomes of the proposed project;

(ii) The extent to which the methods of evaluation include the use of objective performance measures that are clearly related to the intended outcomes of the project and will produce quantitative and qualitative data to the extent possible;

(iii) The extent to which the methods of evaluation will provide performance feedback and permit periodic assessment of progress toward achieving intended outcomes; and

(iv) The extent to which the evaluation will provide guidance about effective strategies suitable for replication or testing in other settings.

(d) Adequacy of resources and quality of project personnel (15 points).

(1) The Secretary considers the adequacy of resources for the proposed project and the quality of the personnel who will carry out the proposed project.

(2) In determining the quality of project personnel, the Secretary considers the extent to which the applicant encourages applications for employment from persons who are members of groups that have traditionally been underrepresented based on race, color, national origin, gender, age, or disability.

(3) In addition, the Secretary considers the following factors:

(i) The qualifications, including relevant training and experience, of the project director or principal investigator;

(ii) The qualifications, including relevant training and experience, of key project personnel;

(iii) The qualifications, including relevant training and experience, of project consultants or subcontractors;

(iv) The adequacy of support, including facilities, equipment, supplies, and other resources, from the applicant organization or the lead applicant organization;

(v) The relevance and demonstrated commitment of each partner in the proposed project to the implementation and success of the project; and

(vi) The extent to which the costs are reasonable in relation to the objectives, design, and potential significance of the proposed project.

(e) Quality of the management plan (20 points).

(1) The Secretary considers the quality of the management plan for the proposed project.

(2) In determining the quality of the management plan for the proposed project, the Secretary considers the following factors:

(i) The adequacy of the management plan to achieve the objectives of the proposed project on time and within budget, including clearly defined responsibilities, timelines, and milestones for accomplishing project tasks;

(ii) The adequacy of procedures for ensuring feedback and continuous improvement in the operation of the proposed project;

(iii) The extent to which the time commitments of the project director and principal investigator and other key project personnel are appropriate and adequate to meet the objectives of the proposed project; and

(iv) How the applicant will ensure that a diversity of perspectives is brought to bear in the operation of the proposed project, including those of parents, teachers, the business community, a variety of disciplinary and professional fields, recipients or beneficiaries of services, or others, as appropriate.

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary requires various assurances, including those applicable to Federal civil rights laws that prohibit discrimination in programs or activities receiving Federal financial assistance from the Department (34 CFR 100.4, 104.5, 106.4, 108.8, and 110.23).

3. Additional Review and Selection Process Factors: In the past, the Department has had difficulty finding peer reviewers for certain competitions because so many individuals who are eligible to serve as peer reviewers have conflicts of interest. The standing panel requirements under section 682(b) of IDEA also have placed additional constraints on the availability of reviewers. Therefore, the Department has determined that for some discretionary grant competitions, applications may be separated into two or more groups and ranked and selected for funding within specific groups. This procedure will make it easier for the Department to find peer reviewers by ensuring that greater numbers of individuals who are eligible to serve as reviewers for any particular group of applicants will not have conflicts of interest. It also will increase the quality, independence, and fairness of the review process, while permitting panel members to review applications under discretionary grant competitions for which they also have submitted applications.

4. Risk Assessment and Specific Conditions: Consistent with 2 CFR 200.205, before awarding grants under this competition the Department conducts a review of the risks posed by applicants. Under 2 CFR 3474.10, the Secretary may impose specific conditions and, in appropriate circumstances, high-risk conditions on a grant if the applicant or grantee is not financially stable; has a history of unsatisfactory performance; has a financial or other management system that does not meet the standards in 2 CFR part 200, subpart D; has not fulfilled the conditions of a prior grant; or is otherwise not responsible.

5. Integrity and Performance System: If you are selected under this competition to receive an award that over the course of the project period may exceed the simplified acquisition threshold (currently $250,000), under 2 CFR 200.205(a)(2), we must make a judgment about your integrity, business ethics, and record of performance under Federal awards—that is, the risk posed by you as an applicant—before we make an award. In doing so, we must consider any information about you that is in the integrity and performance system (currently referred to as the Federal Awardee Performance and Integrity Information System (FAPIIS)), accessible through the System for Award Management. You may review and comment on any information about yourself that a Federal agency previously entered and that is currently in FAPIIS.

Please note that, if the total value of your currently active grants, cooperative agreements, and procurement contracts from the Federal Government exceeds $10,000,000, the reporting requirements in 2 CFR part 200, Appendix XII, require you to report certain integrity information to FAPIIS semiannually. Please review the requirements in 2 CFR part 200, Appendix XII, if this grant plus all the other Federal funds you receive exceed $10,000,000.

VI. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Open Licensing Requirements: Unless an exception applies, if you are awarded a grant under this competition, you will be required to openly license to the public grant deliverables created in whole, or in part, with Department grant funds. When the deliverable consists of modifications to pre-existing works, the license extends only to those modifications that can be separately identified and only to the extent that open licensing is permitted under the terms of any licenses or other legal restrictions on the use of pre-existing works. Additionally, a grantee that is awarded competitive grant funds must have a plan to disseminate these public grant deliverables. This dissemination plan can be developed and submitted after your application has been reviewed and selected for funding. For additional information on the open licensing requirements please refer to 2 CFR 3474.20.

4. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multiyear award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

5. Performance Measures: Under the Government Performance and Results Act of 1993, the Department has established a set of performance measures, including long-term measures, that are designed to yield information on various aspects of the effectiveness and quality of the Educational Technology, Media, and Materials for Individuals with Disabilities program. These measures are:

• Program Performance Measure #1: The percentage of Educational Technology, Media, and Materials Program products and services judged to be of high quality by an independent review panel of experts qualified to review the substantial content of the products and services.

• Program Performance Measure #2: The percentage of Educational Technology, Media, and Materials Program products and services judged to be of high relevance to improving outcomes for infants, toddlers, children, and youth with disabilities.

• Program Performance Measure #3: The percentage of Educational Technology, Media, and Materials Program products and services judged to be useful in improving results for infants, toddlers, children, and youth with disabilities.

• Program Performance Measure #4.1: The Federal cost per unit of accessible educational materials funded by the Educational Technology, Media, and Materials Program.

• Program Performance Measure #4.2: The Federal cost per unit of accessible educational materials from the National Instructional Materials Accessibility Center funded by the Educational Technology, Media, and Materials Program.

• Program Performance Measure #4.3: The Federal cost per unit of video description funded by the Educational Technology, Media, and Materials Program (long-term measure).

These measures apply to projects funded under this competition, and grantees are required to submit data on these measures as directed by OSEP.

Grantees will be required to report information on their project's performance in annual and final performance reports to the Department (34 CFR 75.590).

The Department will also closely monitor the extent to which the products and services provided by the Center meet needs identified by stakeholders and may require the Center to report on such alignment in their annual and final performance reports.

6. Continuation Awards: In making a continuation award under 34 CFR 75.253, the Secretary considers, among other things: Whether a grantee has made substantial progress in achieving the goals and objectives of the project; whether the grantee has expended funds in a manner that is consistent with its approved application and budget; and, if the Secretary has established performance measurement requirements, the performance targets in the grantee's approved application.

In making a continuation award, the Secretary also considers whether the grantee is operating in compliance with the assurances in its approved application, including those applicable to Federal civil rights laws that prohibit discrimination in programs or activities receiving Federal financial assistance from the Department (34 CFR 100.4, 104.5, 106.4, 108.8, and 110.23).

VII. Other Information

Accessible Format: Individuals with disabilities can obtain this document and a copy of the application package in an accessible format (e.g., braille, large print, audiotape, or compact disc) by contacting the Management Support Services Team, U.S. Department of Education, 400 Maryland Avenue SW, Room 5081A, Potomac Center Plaza, Washington, DC 20202-5076. Telephone: (202) 245-7363. If you use a TDD or a TTY, call the FRS, toll free, at 1-800-877-8339.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Johnny W. Collett,
Assistant Secretary for Special Education and Rehabilitative Services.

[FR Doc. 2019-16354 Filed 7-31-19; 8:45 am]

BILLING CODE 4000-01-P